ENVIRONMENTAL PROTECTION AGENCY

[FRL-9086-8]

Postponement of NACEPT Subcommittee on Promoting Environmental Stewardship

AGENCY: Environmental Protection Agency (EPA).

ACTION: Postponement of meeting.

SUMMARY: On November 13, 2009, EPA provided notice (74 FR 58626) of a meeting of the NACEPT Subcommittee on Promoting Environmental Stewardship on December 1 and 2, 2009. The purpose of this notice is to announce a postponement of the December 1 and 2 meeting.

The purpose of the Subcommittee on Promoting Environmental Stewardship (SPES) of the National Advisory Council for Environmental Policy and Technology (NACEPT) is to advise the U.S. Environmental Protection Agency on how to promote environmental stewardship practices that encompass all environmental aspects of an organization in the regulated community and other sectors, as appropriate, in order to enhance human health and environmental protection.

The meeting scheduled for December 1 and 2 was intended to focus on the Subcommittee's potential stewardship-related recommendations for the Agency. The meeting is being postponed to allow additional time for Subcommittee members to more fully prepare and process potential next steps.

FOR FURTHER INFORMATION CONTACT: Regina Langton, Designated Federal Officer, langton.regina@epa.gov, 202-566-2178, U.S. EPA Office of Policy, Economics, and Innovation (MC1807T), 1200 Pennsylvania Avenue, NW., Washington, DC 20460.

Dated: November 23, 2009.
Andrew Teplitzky,
Acting Director, Performance Track Division.

[FR Doc. E9-28534 Filed 11-27-09; 8:45 am]

BILLING CODE 6560-50-P